DEPARTMENT OF TRANSPORTATION

Federal Aviation Administration

14 CFR Part 39

[Docket No. 90-CE-55-AD]

RIN 2120-AA64

Airworthiness Directives; The New Piper Aircraft, Inc. (formerly the Piper Aircraft Corporation) Models PA-12, PA-12S, and PA-14 Airplanes

AGENCY: Federal Aviation Administration (FAA), DOT.

ACTION: Proposed rule; withdrawal.

SUMMARY: This document withdraws a notice of proposed rulemaking (NPRM) that would have applied to certain The New Piper Aircraft, Inc. (Piper) Models PA-12, PA-12S, and PA-14 airplanes that are equipped with F. Atlee Dodge Aircraft Services, Inc., Model 3140 long-range fuel tanks. The proposed action would have required removing all Model 3140 fuel tanks and restoring the wing panel assemblies to an approved type design configuration. Since issuance of the NPRM and after further review of all available information, including the comments received on the NPRM, the Federal Aviation Administration (FAA) has determined that the proposed rule as written should be withdrawn. This withdrawal does not prevent the FAA from initiating future rulemaking on this subject.

ADDRESSES: You may look at information related to this action at FAA, Central Region, Office of Regional Counsel, Attention: Rules Docket No. 90-CE-55-AD, 901 Locust, Room 506, Kansas City, Missouri 64106, between 8 a.m. and 4 p.m., Monday through Friday, except holidays.

FOR FURTHER INFORMATION CONTACT: Mr. Barry Ballenger, Aerospace Engineer, FAA, Small Airplane Directorate, 901 Locust, Room 301, Kansas City, Missouri 64106; telephone: (816) 329-4152; facsimile: (816) 329-4090; e-mail: barry.ballenger@faa.gov.

SUPPLEMENTARY INFORMATION:

Discussion

What action has FAA taken to date? We issued a proposal to amend part 39 of the Federal Aviation Regulations (14 CFR part 39) to include an AD that would apply to certain Piper Models PA-12, PA-12S, and PA-14 airplanes that are equipped with F. Atlee Dodge Services, Inc. Model 3140 fuel tanks. This proposal was published in the Federal Register as a notice of proposed rulemaking (NPRM) on January 8, 1991 (56 FR 561). The action proposed to require removing all F. Atlee Dodge Service, Inc. Model 3140 fuel tanks and restoring the wing panel assemblies to the configuration defined by the original type design or approved under an applicable Supplemental Type Certificate.

Was the public invited to comment? The FAA invited interested persons to participate in the making of this amendment. The numerous comments we received fell in the following areas:

—Problems with F. Atlee Dodge Model 3140 fuel tanks.

—The adequacy of the installation procedures and instructions for the F. Atlee Dodge Model 3140 fuel tanks.

—The condition of the original tanks.

—The relationship between the Model 3140 fuel tank manufacturer and the FAA.

—The cost of the proposed action.

—The contents of the Malfunction and Defect report referenced in the NPRM.

—The strength and structural differences between the F. Atlee Dodge Model 3140 tanks and the original fuel tanks.

What is the FAA's final determination on this issue? The FAA evaluated all of these comments and all information related to this issue and determined that:

(1) An unsafe condition as defined in part 39 of the Federal Aviation Regulations (14 CFR part 39) does not exist on FAA-approved field installations of the F. Atlee Dodge Services, Inc. Model 3140 fuel tanks on Piper Models PA-12, PA-12S, and PA-14 airplanes; and

(2) The NPRM as currently written should be withdrawn.

Withdrawal of this NPRM constitutes only such action, and does not preclude the agency from issuing future rulemaking on this issue, nor does it commit the agency to any course of action in the future.

Regulatory Impact

Does this AD involve a significant rule or regulatory action? Since this action only withdraws an NPRM, it is neither a proposed nor a final rule and therefore, is not covered under Executive Order 12866, the Regulatory Flexibility Act, or DOT Regulatory Policies and Procedures (44 FR 11034, February 26, 1979).

List of Subjects in 14 CFR Part 39

Air transportation, Aircraft, Aviation Safety, Safety.

The Withdrawal

Accordingly, the notice of proposed rulemaking, Docket No. 90-CE-55-AD, published in the Federal Register on January 8, 1991 (56 FR 561), is withdrawn.

Issued in Kansas City, Missouri, on October 4, 2004.
Dorenda D. Baker,
Manager, Small Airplane Directorate, Aircraft Certification Service.

[FR Doc. 04-22813 Filed 10-8-04; 8:45 am]

BILLING CODE 4910-13-U